DEPARTMENT OF HOMELAND SECURITY

Coast Guard

33 CFR Part 117

[Docket No. USCG-2016-1021]

Drawbridge Operation Regulation; St. Johns River, Jacksonville, FL

AGENCY: Coast Guard, DHS.

ACTION: Notice of deviation from drawbridge regulation.

SUMMARY: The Coast Guard has issued a temporary deviation from the operating schedule that governs the Florida East Coast Railway Bridge, St. Johns River, mile 24.9, at Jacksonville, FL. The deviation is necessary to perform major bridge repairs. This deviation allows the bridge to remain in the closed-to-navigation position.

DATES: This deviation is effective from 7 a.m. on January 11, 2017 to 6 p.m. on February 10, 2017.

ADDRESSES: The docket for this deviation, [USCG-2016-1021] is available at http://www.regulations.gov. Type the docket number in the “SEARCH” box and click “SEARCH”. Click on Open Docket Folder on the line associated with this deviation.

FOR FURTHER INFORMATION CONTACT: If you have questions on this temporary deviation, call or email Mr. Rod Elkins, Seventh Coast Guard District, Bridge Branch; telephone 305-415-6989, email Rodney.j.elkins@uscg.mil.

SUPPLEMENTARY INFORMATION: Florida East Coast Railway requested a temporary deviation from the operating schedule that governs the Florida East Coast Railway Bridge, St. Johns River, mile 24.9, Jacksonville, FL. The bridge is a single leaf bascule railway bridge with a five foot vertical clearance in the closed position. The deviation is necessary to perform major bridge repairs. The normal operating schedule for the bridge is found in 33 CFR 117.325 which indicates that the draw is normally in the fully open position, displaying flashing green lights to indicate that vessels may pass.

The deviation period is from 7 a.m. on January 11, 2017 to 6 p.m. on February 10, 2017. During this period, the bridge is allowed to remain closed to navigation from 7 a.m. to 11 a.m., and from 1 p.m. to 5 p.m. on January 11, 2017 from 7 a.m. to noon and from 2 p.m. to 5 p.m. on January 12, 2017 from 8 a.m. to noon, and from 2:30 p.m. to 6:30 p.m. on January 13, 2017 from 7 a.m. to 11 a.m., and from 1 p.m. to 5 p.m. on January 18, 2017 and January 19, 2017 and from 8 a.m. to noon, and from 2:30 p.m. to 6:30 p.m. on January 20, 2017. Additionally, the bridge will be allowed to remain closed to navigation from 7 a.m. January 30, 2017 through 6 p.m. on February 10, 2017.

The Coast Guard coordinated this closure period with the bridge owner and the waterway users. The bridge will be unable to open for emergencies; the small boat span can be used as an alternate route for vessels unable to pass through the bridge while in the closed-to-navigation position. The Coast Guard will also inform the users of the waterways through Local and Broadcast Notices to Mariners of the change in operating schedule for the bridge to ensure vessel operators can arrange their transits to minimize any impact caused by the temporary deviation.

In accordance with 33 CFR 117.35(e), the drawbridge must return to its regular operating schedule immediately at the end of the effective period of this temporary deviation. This deviation from the operating regulations is authorized under 33 CFR 117.35.

Dated: 18 January 2017.
Barry Dragon,
Director, Bridge Branch, Seventh Coast Guard District.

[FR Doc. 2017-02456 Filed 2-6-17; 8:45 am]

BILLING CODE 9110-04-P